DEPARTMENT OF AGRICULTURE

Agricultural Marketing Service

7 CFR Parts 1150, 1160, 1205, 1206, 1207, 1208, 1209, 1210, 1212, 1214, 1215, 1216, 1217, 1218, 1219, 1222, 1230, 1250, and 1260

[Document Number AMS-DA-16-0101]

Provisions for Removing Commodity Research and Promotion Board Members and Staff

AGENCY: Agricultural Marketing Service, USDA.

ACTION: Extension of comment period.

SUMMARY: Notice is hereby given that the comment period on proposed amendments to the provisions for removal of board and council members or staff of the research and promotion orders—or the regulations under the orders—overseen by the Agricultural Marketing Service (AMS) is extended to December 23, 2016. The proposed rule would provide uniform authority for the U.S. Department of Agriculture (USDA) to initiate action to remove board members and staff who fail to perform their duties or who engage in dishonest actions or willful misconduct. Such action is necessary to ensure the boards can continue to fulfill their intended purposes with minimal disruption.

DATES: Comments must be received by December 23, 2016.

ADDRESSES: Interested persons are invited to submit written comments concerning this proposed rule. Comments should be submitted on the internet at: http://www.regulations.gov. Written comments may also be sent to Laurel L. May, Senior Marketing Specialist, Order Formulation and Enforcement Division, USDA/AMS/Dairy Program, 1400 Independence Avenue SW., Room 2967-S—Stop 0231, Washington, DC 20250-0231; facsimile: 202-690-0552. All comments should reference the document number and the date and page number of this issue and the November 23, 2016, issue of the Federal Register, and will be made available for public inspection in the above office during regular business hours, or may be viewed at: http://www.regluations.gov. Please be advised that the identity of the individuals or entities submitting the comments will be made public on the internet at the address provided above.

FOR FURTHER INFORMATION CONTACT: Laurel L. May, Senior Marketing Specialist, USDA/AMS/Dairy Program, telephone 202-690-1366, or email Laurel.May@ams.usda.gov; or Whitney Rick, Director; Promotion, Research, and Planning Division; USDA/AMS/Dairy Program; telephone 202-720-6961; or email Whitney.Rick@ams.usda.gov.

SUPPLEMENTARY INFORMATION: A proposed rule was published in the Federal Register on November 23, 2016 (81 FR 84510). The proposed rule would amend the orders and/or rules and regulations for 19 of the 22 national commodity research and promotion programs overseen by AMS by providing uniform authority for USDA to initiate action as necessary to remove board and council members or their staff employees to preserve program integrity and mitigate damage from illegal or inappropriate behavior. Currently, most of AMS's 22 research and promotion programs specify provisions for removing board and council members or their staff employees when they are unwilling or unable to perform their duties properly or when they engage in prohibited or illegal activities or other willful misconduct. However, removal authority is inconsistent across all of the programs, which impairs AMS's ability to provide uniform oversight of the programs and their assets. The 15-day comment period provided in the proposed rule closes December 8, 2016.

USDA received letters from several of the affected programs requesting that the comment period be extended. The letters expressed concern that the original comment period was insufficient to allow commenters to adequately evaluate the impacts of the proposal and develop appropriate comments.

Authority: This document is issued under 19 of the commodity research and promotion orders established under the following acts: Beef Promotion and Research Act of 1985 (7 U.S.C. 2901-2911); Commodity Promotion, Research, and Information Act of 1996 (7 U.S.C. 7411-7425); Cotton Research and Promotion Act of 1966 (7 U.S.C. 2101-2118); Dairy Production Stabilization Act of 1983 (7 U.S.C. 4501-4514); Egg Research and Consumer Information Act of 1974 (7 U.S.C. 2701-2718); Fluid Milk Promotion Act of 1990 (7 U.S.C. 6401-6417); Hass Avocado Promotion, Research, and Information Act of 2000 (U.S.C. 7801-7813); Mushroom Promotion, Research, and Consumer Information Act of 1990 (7 U.S.C. 6101-6112); Popcorn Promotion, Research, and Consumer Information Act of 1996 (7 U.S.C. 7481-7491); Pork Promotion, Research, and Consumer Information Act of 1985 (7 U.S.C. 4801-4819); Potato Research and Promotion Act of 1971 (7 U.S.C. 2611-2627); and Watermelon Research and Promotion Act (7 U.S.C. 4901-4916). These acts are collectively referred to as “commodity research and promotion laws” or “acts.”

Dated: December 7, 2016.
Bruce Summers,
Associate Administrator, Agricultural Marketing Service.

[FR Doc. 2016-29852 Filed 12-12-16; 8:45 am]

BILLING CODE 3410-02-P